DEPARTMENT OF COMMERCE

International Trade Administration

[Application No. 03-1A008]

Export Trade Certificate of Review

ACTION: Notice of Issuance of an amended Export Trade Certificate of Review to the California Pistachio Export Council (“CPEC”), Application No. (03-1A008).

SUMMARY: The Secretary of Commerce, through the Office of Trade and Economic Analysis (“OTEA”), issued an amended Export Trade Certificate of Review to the California Pistachio Export Council on February 3, 2016.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2016).

OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

CPEC's Export Trade Certificate of Review has been amended to:

1. Remove the following company as Member of the Certificate: Gold Coast Pistachios, Inc.

2. Change the name of an existing Member: A&P Growers Cooperative, Inc. is now Horizon Marketing Agency in Common Cooperative Inc.

CPEC's complete Membership covered by the amended Export Trade Certificate of Review is listed below:

(a) Keenan Farms, Inc.

(b) Monarch Nut Company

(c) Nichols Pistachio

(d) Primex Farms, LLC

(e) Setton Pistachio of Terra Bella, Inc.

(f) Horizon Marketing Agency in Common Cooperative Inc.

Dated: February 18, 2016.
Joseph E. Flynn,
Director, Office of Trade and Economic Analysis.

[FR Doc. 2016-03851 Filed 2-23-16; 8:45 am]

BILLING CODE 3510-DR-P